DEPARTMENT OF STATE

[Public Notice: 6365]

30-Day Notice of Proposed Information Collection: DS Form 4502, DS Form 7003, DS Form 7004, Fulbright Teacher Exchange Program Application Package, OMB No.1405-0114

ACTION: Notice of request for public comment and submission to OMB of proposed collection of information.

SUMMARY: The Department of State has submitted the following information collection request to the Office of Management and Budget (OMB) for approval in accordance with the Paperwork Reduction Act of 1995.

• Title of Information Collection: Fulbright Teacher Exchange Program Application Package.

• OMB Control Number: 1405-0114.

• Type of Request: Revision of a currently approved collection.

• Originating Office: Office of Global Educational Programs (ECA/A/S)

• Form Number: DS-4502, DS-7003, DS-7004.

• Respondents: Educators desiring to participate in the Fulbright Teacher Exchange Program and/or host an international participant.

• Estimated Number of Respondents:

•DS-4502 (U.S. Application)—800

•DS-7003 (International Application)—300

•DS-7004 (Hosting Application)—100

• Estimated Number of Responses:

•DS-4502 (U.S. Application)—800

•DS-7003 (International Application)—300

•DS-7004 (Hosting Application)—100

• Average Hours Per Response:

•DS-4502 (U.S. Application)—2 hours

•DS-7003 (International Application)—2 hours

•DS-7004 (Hosting Application)—1.5 hours

• Total Estimated Burden:—2350 hours.

• Frequency: On occasion.

• Obligation to Respond Required to Obtain or Retain a Benefit.

DATE(S): Submit comments to the Office of Management and Budget (OMB) for up to 30 days from September 24, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: You may obtain copies of the proposed information collection and supporting documents from Ruta Chagnon, Program Officer (ECA/A/S/X); Department of State, SA-44, Room 349, 301 Fourth Street, SW., Washington DC 20547, who may be reached on 202.453.8645 or at ChagnonRX@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of Proposed Collection

Under the Mutual Educational and Cultural Exchange (Fulbright-Hays) Act of 1961, as amended, the Fulbright Teacher Exchange Program offers academic year exchanges and seminar opportunities to U.S. educators. The data collected is used to determine whether prospective candidates are qualified for participation in and/or eligible to host international participants of the program.

Methodology

Applicants submit either a paper or electronic application to ECA. The receiving office enters the data for retention and program use as appropriate.

Dated: September 18, 2008.
Helene Vonnegut,
Acting Executive Director, ECA/IIP, Department of State.

[FR Doc. E8-22407 Filed 9-23-08; 8:45 am]

BILLING CODE 4710-05-P